ENVIRONMENTAL PROTECTION AGENCY

[ER-FRL-6685-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070018, ERP No. D-RUS-H05025-MO, Norborne Baseload Power Plant, Proposed Construction and Operation of a 660-megawatt Net Coal-Fired Power Plant, Carroll County, MO.

Summary: EPA expressed environmental concerns about mercury emissions and the mercury risk assessment. EPA requested additional information on the mercury issue and recommended that ozone monitoring be continued throughout the ozone season. Rating EC2.

EIS No. 20070028, ERP No. D-COE-K39104-CA, PROGRAMMATIC—Los Angeles River Revitalization Master Plan (LARRMP) Project, Implementation, Improving Natural Habitat, Water Quality, Recreation, Economic Values and Open Space, Owensmoth Avenue in Canoga Park (at the Confluence of Bell Creek and Arroyo Calabasas) and continues down stream to Washington Boulevard near the northern boundary of the City of Vernon, City of Los Angeles, Los Angeles County, CA.

Summary: EPA does not object to the proposed action. Rating LO.

EIS No. 20070039, ERP No. D-WPA-K08032-CA, Trinity Public Utilities District Direct Interconnection Project, Construct and Operate a 16-mile Long 60-Kilovolt Power Transmission Facilities, (DOE/EIS-0389, Trinity County, CA.

Summary: EPA does not object to the proposed project. Rating LO.

EIS No. 20070041, ERP No. D-AFS-L65532-OR, Five Buttes Project, Conduct Vegetation Management Activities, Implementation, Deschutes National Forest, Crescent Ranger District, Deschutes County, OR.

Summary: EPA does not object to the proposed action. Rating LO.

EIS No. 20070048, ERP No. D-NOA-L64052-00, PROGRAMMATIC—Steller Sea Lion and Northern Fur Seal Research, Proposal to Disburse Funds and Issue Permit for Research, AK, WA, OR and CA.

Summary: EPA expressed environmental concerns about unintentional lethal takes, mortality rates and impacts from research activities. EPA requested information on impact levels and tribal consultation. Rating EC2.

EIS No. 20070006, ERP No. DS-DOE-D09800-PA, Gilberton Coal-to-Clean Fuels and Power Project, Construction and Operation a New Demonstration Plant, Updated Information to Correct Information regarding Carbon Dioxide (CO2) Emissions, Schuylkill County, PA.

Summary: EPA requested that adaptive management provisions be considered to assess CO2 mitigation measures. Rating EC2.

Final EISs

EIS No. 20070060, ERP No. F-AFS-F65063-WI, Twentymile Restoration Project Area, Restore Northern Hardwood Forests to an Uneven-aged Condition, Great Divide Ranger District, Chequamegon-Nicolet National Forest, Ashland and Bayfield Counties, WI.

Summary: The Final EIS addressed EPA's comments, including information on habitat restoration; therefore, EPA does not object to the proposed project.

Dated: April 10, 2007
Ken Mittelholtz,
Environmental Protection Specialist, Office of Federal Activities.

[FR Doc. E7-7022 Filed 4-12-07; 8:45 am]

BILLING CODE 6560-50-P